DEPARTMENT OF TRANSPORTATION

Pipeline and Hazardous Materials Safety Administration

[Docket No. PHMSA-2011-0198, Notice No. 11-8]

Safety Advisory: Unauthorized Marking of Compressed Gas Cylinders

AGENCY: Pipeline and Hazardous Materials Safety Administration (PHMSA), DOT.

ACTION: Safety Advisory Notice.

SUMMARY: PHMSA issues this safety advisory to notify the public of the unauthorized marking of certain of high- and low-pressure compressed gas cylinders, primarily fire extinguishers, by Atlas Fire Protection located at 7425 Sewells Point Road, Norfolk, VA.

FOR FURTHER INFORMATION CONTACT: Chris Michalski, Senior Investigator, Eastern Region, Office of Hazardous Materials Safety Field Operations, Pipeline and Hazardous Materials Safety Administration, U.S. Department of Transportation, 820 Bear Tavern Road, Suite 306, W. Trenton, NJ 08034. Telephone: (609) 989-2256, Fax: (609) 989-2277, or e-mail: chris.michalski@dot.gov.

SUPPLEMENTARY INFORMATION: The Hazardous Materials Regulations (HMR) require compressed gas cylinders to be subjected to periodic requalification (visual inspection and hydrostatic testing in accordance with 49 CFR 180.205 and 180.209) to verify the structural integrity of a cylinder and its suitability for continued service. If the required inspections and tests are not performed, a cylinder with compromised structural integrity may be returned to service when it should be condemned. Extensive property damage, serious personal injury, or death could result from the rupture of a cylinder. Cylinders not requalified in accordance with the HMR may not be filled with compressed gas or other hazardous material and offered for transportation in commerce. Only DOT approved facilities are authorized to requalify cylinders.

Investigations conducted by PHMSA's field operations in 2009, 2010, and 2011, revealed that some high- and low- pressure cylinders serviced by Atlas Fire Protection were marked and represented as requalified (visually inspected and hydrostatically tested) in accordance with HMR when the appropriate inspections and tests were not performed. PHMSA determined during its investigations that: (1) Atlas Fire Protection is not approved or authorized to requalify DOT-specification cylinders or mark such cylinders as requalified; (2) Atlas Fire Protection applied requalification markings to cylinders that were not subjected to the required inspections and tests; and (3) Atlas Fire Protection marked cylinders with a Requalifier Identification Number (RIN) B243 that was not issued to them, but rather to another company, Fire-X Corporation, Norfolk, VA. The unauthorized markings (B243) applied by Atlas Fire Protection were stamped into the cylinder and include a month and the last two digits of the year. In the case of low pressure fire extinguishers, the markings may appear on an adhesive label with holes punched through the month, year, and hydrostatic test indicator. Only cylinders serviced by Atlas Fire Protection are suspect.

Anyone in possession of a cylinder that was serviced by Atlas Fire Protection and marked with test dates of 2007 through 2011 and has not had the cylinder requalfied by a DOT approved requalification facility since then, should consider the cylinder unsafe and not fill it with a hazardous material unless the cylinder is first properly requalified by a DOT approved requalification facility.

Cylinders subject to this advisory that are filled should be safely discharged. Prior to refilling, the cylinders should be taken to a DOT approved cylinder requalification facility to ensure their suitability for continued service. A list of authorized cylinder requalification facilities may be obtained at: http://hazmat.dot.gov.

Persons in possession of cylinders subject to this notice may contact their local fire department for assistance at one of the following telephone numbers:

Ashland | 804-365-4850 | Portsmouth | 757-393-8689
Chesapeake | 757-382-6566 | Richmond | 804-646-6640
Chesterfield | 804-748-1426 | Rockville | 804-786-0000
Hampton | 757-727-1210 | Suffolk | 757-539-8787
Midlothian | 804-786-0000 | Virginia Beach | 757-385-4228
Newport News | 757-247-8873 | Williamsburg | 757-220-6226
Norfolk | 757-664-6604 | Yorktown | 757-890-3626
Virginia State Fire Marshal's Office | 804-371-0220

Issued in Washington, DC on August 30, 2011.
Magdy El-Sibaie,
Associate Administrator for Hazardous Materials Safety.

[FR Doc. 2011-22892 Filed 9-7-11; 8:45 am]

BILLING CODE 4910-60-P